DEPARTMENT OF ENERGY

Federal Energy Regulatory Commission

[Project No. 13809-002]

Lock+TM Hydro Friends Fund XLVIII; Notice of Preliminary Permit Application Accepted for Filing and Soliciting Comments, Motions To Intervene, and Competing Applications

On March 27, 2015, Lock+TM Hydro Friends Fund XLVIII filed an application for a preliminary permit under section 4(f) of the Federal Power Act proposing to study the feasibility of the proposed Mississippi River Lock and Dam 14 Hydropower Project No. 13809-002, to be located at the existing U.S. Army Corps of Engineers' Mississippi River Lock and Dam No. 14 near the city of Hampton, Rock Island County, Illinois. The sole purpose of a preliminary permit, if issued, is to grant the permit holder priority to file a license application during the permit term. A preliminary permit does not authorize the permit holder to perform any land-disturbing activities or otherwise enter upon lands or waters owned by others without the owners' express permission.

The proposed project would be located completely within lands owned by the United States and consist of: (1) Three 105-foot-wide, 40-foot-hight Large Frame Modules (LFM) each containing seven 860 kilowatt (kW) hydropower turbines for a total installed capacity of 18,060 kW; (2) a debris screen and fish screen placed upstream of the LFM; (3) a 50-foot-long tailrace; (4) a switchyard adjacent to the LFM installation and containing a new transformer and control room; (5) a 3.5-mile-long, 69 kilovolt transmission line connecting the generating power to the local grid using an existing substation; and (6) appurtenant facilities. The LFM would be installed upstream of the dam in a single row across the Mississippi River on the side of the river farthest away from the navigational lock. The LFM would be anchored to new pilings or a concrete gravity structure in the river bed. The project is estimated to generate 102,000 megawatt hours annually.

Applicant Contact: Mr. Wayne F. Krouse, Chairman, Hydro Green Energy, LLC, Managing Partner, Lock+™ Hydro Friends Fund XLVIII, PO Box 43796, Birmingham, AL 35243; phone: 877-556-6566, extension 709.

FERC Contact: Sergiu Serban, (202) 502-6211.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13809-002.

More information about this project, including a copy of the application, can be viewed or printed on the “eLibrary” link of Commission's Web site at http://www.ferc.gov/docs-filing/elibrary.asp. Enter the docket number (P-13809) in the docket number field to access the document. For assistance, contact FERC Online Support.

Dated: June 30, 2015.
Kimberly D. Bose,
Secretary.

[FR Doc. 2015-16684 Filed 7-7-15; 8:45 am]

BILLING CODE 6717-01-P